FEDERAL COMMUNICATIONS COMMISSION

Public Information Collections Approved by Office of Management and Budget

March 1, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0855.

Expiration Date: 08/31/2001.

Title: Telecommunications Reporting Worksheet and Associated Requirements, CC.

Docket No. 96-45.

Form No.: FCC Form 499-A.

Respondents: Business or other for-profit.

Estimated Annual Burden: 5,000 respondents; 15 minutes—9.5 hours per respondent; 9.7 hours per response (avg.); 48,662 total annual burden hours.

Estimated Annual Reporting and Recordkeeping Cost Burden: $9,000.

Frequency of Response: On occasion; Annually; Semi-annually; Recordkeeping; Third Party Disclosure.

Description: The Telecommunications Act of 1996 directs the Commission to implement several Congressionally-mandated goals. These include the advancement of universal service, the administration of numbering, and the administration of local number portability. Specifically, section 251 of the Communications Act of 1934, as amended, requires all telecommunications carriers to bear the costs of numbering administration and number portability on a competitively neutral basis, as determined by the Commission. Similarly, section 254 of the Act directed the Commission to initiate a rulemaking to reform the system of universal service so that universal service is preserved and advanced as markets move toward competition. In addition, section 225 of the Communications Act of 1934 requires the Commission to provide for telecommunications relay services. Pursuant to the Communications Act of 1934, as amended, telecommunications carriers (and certain other providers of telecommunications services) must contribute to the support and cost recovery mechanisms for telecommunications relay services, numbering administration, number portability, and universal service. Contributors to the federal universal service support mechanisms, the TRS fund, the cost recovery mechanism for numbering administration, and the cost recovery mechanism for the shared costs of local number portability must file the revised Telecommunications Reporting Worksheet, FCC Form 499-A (April 2001 Worksheet). All of these entities must complete and file the April 2001 Worksheet on or before April 2, 2001. Data filed on the April 2001 Worksheet will be used to calculate contributions to the universal service support mechanisms, as well as the TRS fund, the cost recovery for numbering administration, and the cost recovery for the shared costs of local number portability. Information filed on the April 2001 Worksheet will also be used to satisfy the Commission's recently adopted registration requirement for new and existing carrier providing interstate telecommunications service pursuant to 47 CFR section 64.1195. In CC Docket No. 94-129, (FCC 00-255) released August 15, 2000, the Commission concluded that all new or and existing common carriers providing interstate telecommunications service must register with the Commission. The Commission determined that this registration requirement will enable it to better monitor the entry of carriers into the interstate telecommunications market and any associated increases in slamming activity, and will also enhance its ability to take appropriate enforcement action against carriers that have demonstrated a pattern or practice of slamming. The April 2001 Worksheet has been revised to collect this additional information. Where a facilities-based carrier is currently providing a reseller with service, the reseller must notify its underlying facilities-based carrier that it has submitted the registration information to the Commission, within a week of having done so. Contributors must use the April 2001 Worksheet for their filings due on April 2, 2001. Copies of the April 2001 Worksheet (FCC Form 499-A) and instructions may be downloaded from the Commission's Forms Web Page (www.fcc.gov/formpage.html). Copies may also be obtained from NECA at 973-560-4400. Small common carriers and small pay telephone providers should complete the table contained in Figure 1 of FCC Form 499-A to determine whether they meet the de minimis standard. Telecommunications providers that do not file because they are de minimis should retain Figure 1 and documentation of their contribution base revenues for 3 calendar years after the date each worksheet is due. These carriers may be required to file the table upon request by the Commission. If a reseller qualifies for the de minimis exemption, it must notify its underlying carriers that it is not contributing directly to universal service. Filers of the April 2001 Worksheet are invited to complete a one-page survey concerning the implementation of electronic filing.

Obligation to respond: Mandatory.

OMB Control No.: 3060-0681.

Expiration Date: 9/30/2003.

Title: Toll-Free Service Access Codes—CC Docket No. 95-165, 47 CFR Part 52, Subpart D, Sections 52.101-52.111.

Form No.: N/A.

Respondents: Business or other for-profit; Not-for-profit institutions.

Estimated Annual Burden: 168 respondents; 15 hours per response (avg.); 2520 total annual burden hours.

Estimated Annual Reporting and Recordkeeping Cost Burden: $0.

Frequency of Response: On occasion; Third party disclosures.

Description: Responsible Organizations (RespOrgs) requesting that specific toll free numbers be placed in unavailable status are required to submit written requests, with appropriate documentation, to the toll free database administrator. This requirement will hold those RespOrgs more accountable and will decrease abuses of the lag time process. It will prevent numbers from being held in unavailable status without demonstrated reasons, and will make more numbers available for subscribers who need and want them. Current industry guidelines already require that RespOrgs requesting that a toll free number be made unavailable submit written requests with appropriate documentation. The requirement simply codified the existing industry guidelines. The information is used to determine if a particular toll free number appropriately can be placed in unavailable status. This will prevent the fraudulent use of toll free numbers.

Obligation to respond: Required to obtain or retain benefits.

OMB Control No.: 3060-0298.

Expiration Date: 12/31/2003.

Title: Tariffs (Other than Tariff Review Plan)—Part 61.

Form No.: N/A.

Respondents: Business or other for-profit.

Estimated Annual Burden: 2000 respondents; 64.5 hours per response (avg.); 129,000 total annual burden hours.

Estimated Annual Reporting and Recordkeeping Cost Burden: $1,965,000.

Frequency of Response: On occasion.

Description: Sections 201-205 of the Communications Act of 1934, as amended, require that common carriers establish just and reasonable charges, practices and regulations for the service they provide. The schedules containing these charges, practices and regulations must be filed with the Commission, which is required to determine whether such schedules are just, reasonable and not unduly discriminatory. Part 61 of the Commission's Rules establishes the procedures for filing tariffs which contain the charges, practices, and regulations of the common carriers, supporting economic data and other related documents. The supporting data must also conform to other parts of the Commission's rules such as Parts 36 and 69. Part 61 prescribes the framework for the initial establishment of and subsequent revisions to tariffs. Tariffs that do not conform to Part 61 may be rejected. In addition to tariffs filed with the Commission, carriers may be required to post their schedules or rates and regulations. The information collected through a carrier's tariff is used by the Commission to determine whether the services offered are just and reasonable as the Act requires. The tariffs and any supporting documentation are examined in order to determine if the services are offered in a just and reasonable manner. Obligation to respond: Mandatory.

OMB Control No.: 3060-0942.

Expiration Date: 01/31/2004.

Title: Access Charge Reform, Price Cap Performance Review for Local Exchange Carriers, Low-Volume Long Distance Users, Federal-State Joint Board on Universal Service.

Form No.: N/A.

Respondents: Business or other for-profit.

Estimated Annual Burden: 108 respondents; 61.82 hours per response (avg.); 6,677 total annual burden hours.

Estimated Annual Reporting and Recordkeeping Cost Burden: $0.

Frequency of Response: On occasion.

Description: In CC Docket Nos. 96-262, 94-1, 99-249, and 96-45, the Commission adopted an integrated interstate access reform and universal service proposal put forth by the members of the Coalition for Affordable Local and Long Distance Service (CALLS). The CALLS Proposal resolves major outstanding issues concerning access charges. In order to implement the CALLS Proposal, the Commission imposed several information collections. The Report and Order requires price cap LECS to modify their annual access tariff filings; the Report and Order requires each price cap or competitive LEC that wishes to receive support from the interstate access universal service support mechanism to submit quarterly to USAC data showing the number of lines it served in a study areas as of the last business day of the previous quarter. In addition to line count information, price cap LECs must file with USAC on June 30, 2000, October 15, 2000, April 16, 2001 and annually after that, price cap revenue data, prices for unbundled network element loops and line ports, and UNE zone boundary information. See 47 CFR section 54.802. The Report and Order requires price cap LECs who choose not to follow the voluntary portions of the CALLS Proposal to submit cost support information, which the Commission would use to set their access rate levels. The Commission will use the modified tariff information filed by the price cap LECs to ensure compliance with the various interstate access reforms of the CALLS Proposals. USAC will use the line count and other information to determine, on a per-line basis, the amount that the carrier will receive from the interstate access universal service support mechanism. The Commission will use the cost support information to ensure that the interstate access rates are just and reasonable, as required by section 201(b) of the Communications Act. Obligation to respond: Required to obtain or retain benefits.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 01-5827 Filed 3-8-01; 8:45 am]

BILLING CODE 6712-01-P